DEPARTMENT OF AGRICULTURE

Forest Service

Sunken Moose Project; Chequamegon/Nicolet National Forest, Bayfield County, WI

AGENCY: Forest Service, USDA

ACTION: Revised notice, intent to prepare an Environmental Impact Statement

SUMMARY: The Sunken Moose Analysis was originally published in the Federal Register on April 24, 2001 (Vol. 66, No. 79 page 20622, Tuesday, April 24, 2001/Notices). The Forest Service has decided to revise the proposed action for several reasons. The purpose and need for action has been changed as a result of the emerging concerns about the potential spread of an exotic insect pest, the gypsy moth, and new information provided by watershed and roads analysis for the Sunken Moose Project. In addition, the Responsible Official identified a number of the originally proposed components as not connected to the primary activities, and, decided to remove these dissimilar actions from consideration (40 CFR 1508.25). Activities removed from the original proposal include, erosion control projects, access control projects, prescribed burning for natural fuels reduction and wildlife habitat improvements, and installation of dry hydrants. These potential projects will be undertaken in separate NEPA analyses.

This action would occur entirely on National Forest System lands within the Northwest Bayfield Peninsula and Southeast Bayfield Peninsula watersheds approximately six miles east of Washburn, Wisconsin in T.48N, R.5W, Section 6; T.48N, R.6W, Sections 1-24, 26-35; T.48N, R.7W, Sections 1-3, 11-13, 25-26, 36; T.49N, R.5W, Sections 6-7, 18-19, 30-31; T.49N, R6W; T.49N, R.7W, Sections 1, 11-17, 20-29, 32-36.

The Forest Service will prepare an environmental impact statement (EIS) to analyze and disclose the potential environmental effects of the project.

The purpose of the Sunken Moose project is to implement land management activities that are consistent with direction in the Chequamegon National Forest Land and Resource Management Plan (Forest Plan, 1986) and to respond to specific needs and/or problems, identified during watershed and roads analysis. The purpose and need for this proposal are:

1. Restoring and maintaining red and white pine communities at levels that are consistent with providing the desired habitat diversity goals of the Forest Plan (pp. IV-52 through IV-55, IV-59 through IV-60);

2. Maintaining birch woodlands at levels that are consistent with providing habitat diversity goals consistent with the Forest Plan (IV-43 through IV-44);

3. Improving the vigor of oak communities to minimize mortality and growth loss as a result of the expanding infestations of gypsy moth, a non-native, introduced pest of forest stands (Forest Plan, pp. IV-23, IV-52); and

4. Providing saw timber and other wood related commodities for local industries and communities (Forest Plan p. IV-39).

Proposed Action: The Forest Service proposes to implement the following activities on 13,800 to 15,200 acres utilizing a variety of silvicultural systems: shelterwood (23%), commercial thinning (77%). The timber produced as a result of these activities would be yarded by conventional ground-based logging systems (e.g. tractor/jammer, forwarders etc.). In addition, approximately 3,100 acres of timber stand improvement of existing red pine plantations would be undertaken.

Post-harvest activities would include the following: prescribed burning for activity fuel abatement and site preparation and mechanical preparation for reforestation, and tree planting.

In order to facilitate log and/or wood product haul and minimize sedimentation approximately 3.5 miles of permanent road and 9.0 miles of temporary road would be constructed. Approximately ½ mile of Forest Road 697 would be re-constructed to reduce run-off into Four Mile Creek and approximately ¼ mile of Forest Road 433 would be re-located to improve the stream crossing on Lenawee Creek. Finally, about 4 miles of classified roads and 13.5 miles of un-classified roads not needed for management activities would be decommissioned.

DATES: Comments concerning the scope of the analysis should be received within 30 days following publication of this notice to receive timely consideration in the preparation of the draft EIS.

ADDRESSES: Send written comments and suggestions on the proposed action, or requests to be placed on the project mailing list, to: Chris Worth, District Ranger, Washburn Ranger District, P.O. Box 578, 113 East Bayfield St., Washburn, WI 54891. E-mail comments should have a subject line that reads “NEPA Washburn—Sunken Moose” and be sent to rkiewit@fs.fed.us.

FOR FURTHER INFORMATION CONTACT: Ray Kiewit, Interdisciplinary Team Leader, Washburn Ranger District, P.O. Box 578, 113 East Bayfield St., Washburn, WI 54891, phone (715) 373-2667, or email at rkiewit@fs.fed.us.

SUPPLEMENTARY INFORMATION: The information presented in this notice is included to help the reviewer determine if they are interested in or are potentially affected by proposed management activities. Those who wish to provide comments, or are otherwise interested in or affected by the project, are encouraged to obtain additional information from the contact identified in the For Further Information Contact section of this Notice.

Responsible Official—The District Ranger of the Washburn Ranger District, Chris Worth, is the Responsible Official for making project-level decisions, within the project area.

Preliminary Concerns— Scoping conducted in April, 2001 resulted in 54 responses. The Interdisciplinary Team examined letters, e-mails and telephone conversations that were received by the Responsible Official. The Team identified two significant issues: (1) Timber harvest could fragment the forested landscape, resulting in degradation of habitat for interior forest species; and (2) proposed silvicultural prescriptions would not change the current plant communities towards early succession pioneering species (such as aspen and scrub oak) compared to other methods such as clearcutting. The interdisciplinary team will review any additional comments and will examine those irresolvable issues that would drive issues and alternative development.

Public Participation—The Forest Service is seeking comments from Federal, State, and local agencies, as well as local Native American tribes and other individuals or organizations that may be interested in or affected by the proposed action. Comments received in response to this notice will become a matter of public record. While public participation is welcome at any time, comments on the proposed actions received within 30 days of this notice will be especially useful in the preparation of the draft EIS. Timely comments will be used by the interdisciplinary team to: (1) Identify any additional potential issues associated with the proposed actions; (2) develop alternatives to the proposed actions that respond to the identified needs and significant issues; 3) and frame the analysis of potential environmental effects of the alternatives considered in detail. In addition, the public is encouraged to contact and/or visit Forest Service officials at any time during the planning process. At this time, the Forest anticipates sponsoring either an open house or field tour of the project when the DEIS is released for public review and comment.

Relationship to Forest Plan Revision—The Chequamegon-Nicolet National Forest is in the process of revising and combining the existing Land and Resource Management Plans (Forest Plans) for the Chequamegon National Forest and the Nicolet National Forest, which were administratively separate at the time the Forest Plans were developed. A Notice of Intent to revise and combine the Forest Plans was issued in 1996. As part of this process, various inventories and evaluations are occurring. Additionally, the forest is in the process of developing alternative land management scenarios that could change the desired future conditions and management direction for the Forest. A Draft Environmental Impact Statement (DEIS) will be published in the near future that will disclose the consequences of the different land management direction scenarios considered in detail. As a result of the Forest Plan revision effort, the Forest has new and additional information beyond that used to develop the existing Forest Plans. This information will be used where appropriate in the analysis of this project to disclose the effects of the proposed activities and any alternatives developed in detail.

The decisions associated with the analysis of this project will be consistent with the existing Forest Plan, unless amended, for the Chequamegon. Under regulations of the National Environmental Policy Act (40 CFR 1506.1), the Forest Service can take actions while work on a Forest Plan revision is in progress because a programmatic Environmental Impact Statement-the existing Forest Plan Final EIS, already supports the actions. The relationship of this project to the proposed FP revision will be considered as appropriate as part of this planning effort.

Estimated Dates for Filing—It is anticipated that the Draft EIS will be filed with the Environmental Protection Agency and available for public review by August 2002. A 45-day comment period will follow publication of a Notice of Availability of the draft EIS in the Federal Register. Comments received on the draft EIS will be used to prepare of a final EIS, expected in early 2003. A Record of Decision (ROD) will be issued at that time along with the publication of a Notice of Availability of the final EIS and ROD in the Federal Register.

The Reviewer's Obligation to Comment—The Forest Service believes it is important at this early stage to give reviewers notice of several court rulings related to public participation in the environmental review process. First, reviewers of the draft EIS must structure their participation in the environmental review of the proposal in such a way that it is meaningful and alerts an agency to the reviewer's position and contentions. Vermont Yankee Nuclear Power Corp. v. NRDC, 435 U.S. 519, 513 (1978). Also, environmental objections that could be raised at the draft EIS state but that are not raised until after completion of the final EIS may be waived or dismissed by the courts. City of Angoon v. Hodel, 803 F.2d 1016, 1022 (9th Cir. 1986), and Wisconsin Heritages Ubc, v. Harris. 490 F Supp. 1334, 1338 (E.D. Wis., 1980). Because of these court rulings, it is very important that those interested in this proposed action participate by the 45-day comment period of the draft EIS in order that substantive comments and objections are available to the Forest Service at a time when it can meaningfully consider them and respond to them in the final EIS. To assist the Forest Service in identifying and considering issues and concerns on the proposed action, comments should be as specific as possible. Reviewers may wish to refer to the Council on Environmental Quality Regulations for implementing the procedural provisions of the National Environmental Policy Act at 40 CFR 1503.3 in addressing these points.

Dated: April 5, 2002.
Robert Lueckel,
Acting Forest Supervisor, Chequamegon/Nicolet National Forest, 1170 4th Ave. S., Park Falls, WI 54552.

[FR Doc. 02-9161 Filed 4-15-02; 8:45 am]

BILLING CODE 3410-11-P